DEPARTMENT OF COMMERCE

International Trade Administration

[A-583-844]

Correction to Initiation of 2010-2011 Antidumping Duty Administrative Review: Narrow Woven Ribbons With Woven Selvedge From Taiwan

AGENCY: Import Administration, International Trade Administration, Department of Commerce.

DATES: Effective Date: January 3, 2012.

FOR FURTHER INFORMATION CONTACT: Hector Rodriguez or Holly Phelps, AD/CVD Operations, Office 2, Import Administration, International Trade Administration, U.S. Department of Commerce, 14th Street and Constitution Avenue NW., Washington, DC 20230; telephone: (202) 482-0629 and (202) 482-0656, respectively.

SUPPLEMENTARY INFORMATION:

Correction: On October 31, 2011, the Department of Commerce published its initiation of an administrative review of the antidumping duty order covering narrow woven ribbons with woven selvedge (narrow woven ribbons) from Taiwan. See Initiation of Antidumping and Countervailing Duty Administrative Reviews and Request for Revocation in Part, 76 FR 67133, 67138 (Oct. 31, 2011). The period of review is September 1, 2010, through August 31, 2011.

Subsequent to the publication of the initiation of this segment of the proceeding in the Federal Register, we identified four inadvertent errors in the initiation notice. Three companies had typographical errors in their names: FinerRibbon.com, shown as FinerRibbons.com; Shienq Huong Enterprise Co., Ltd., shown as Shieng Huong Enterprise Co., Ltd.; and Hubschercorp, shown as Hubs Hsien Chan Enterprise Co., Ltd. In addition, one company was omitted in error (i.e., Intercontinental Skyline). This notice serves as a correction to the list of companies under review in the above-referenced proceeding. The initiation of the administrative review of narrow woven ribbons from Taiwan is correct and remains unchanged.

This correction is issued and published in accordance with section 777(i) of the Tariff Act of 1930, as amended.

Dated: December 21, 2011.
Gary Taverman,
Acting Deputy Assistant Secretary for Antidumping and Countervailing Duty Operations.

[FR Doc. 2011-33670 Filed 12-30-11; 8:45 am]

BILLING CODE 3510-DS-P